DEPARTMENT OF HEALTH AND HUMAN SERVICES

National Institutes of Health

Request From the Interagency Committee on Human Nutrition Research (ICHNR) for Comments on the Draft National Nutrition Research Roadmap 2015-2020: Advancing Nutrition Research To Improve and Sustain Health

SUMMARY: The Draft National Nutrition Research Roadmap (NNRR) identifies research priorities for human nutrition and describes the role of ICHNR departments and agencies in addressing those priorities over the next five to ten years. ICHNR seeks input about identified research and resource gaps and opportunities and the short- and long-term initiatives proposed to address them. To review the NNRR, please visit https://prevention.nih.gov/nnrr.

DATES: To ensure consideration, your responses must be received by 11:59 p.m. Eastern Standard Time on June 25, 2015.

ADDRESSES: Responses to this Notice must be submitted via email to NNRRfeedback@nih.gov or postal mail to the National Institutes of Health, Division of Nutrition Research Coordination, Two Democracy Plaza, Room 635, 6707 Democracy Boulevard—MSC 5461, Bethesda, Maryland 20892-5461.

FOR FURTHER INFORMATION CONTACT: Dr. Sheila Fleischhacker, Senior Public Health & Science Policy Advisor, National Institutes of Health, Division of Nutrition Research Coordination, Two Democracy Plaza, Room 635, 6707 Democracy Boulevard—MSC 5461, Bethesda, Maryland 20892-5461. Telephone: 301-594-7440, Fax: 301-480-3768, Email: NNRRfeedback@nih.gov.

SUPPLEMENTARY INFORMATION:

Background

Improved nutrition could be one of the most cost-effective approaches to address many of the societal, environmental, and economic challenges facing the nation today, including the morbidity, mortality, and economic burden associated with chronic diseases and disorders. That is, nutrition plays an integral role in human growth and development, in the maintenance of good health and functionality, and in the prevention and treatment of infectious, acute and chronic diseases, as well as genetic disorders such as inborn errors of metabolism. To effectively and efficiently advance the role of nutrition in improving and sustaining health, efforts must be made to coordinate nutrition research supported by the federal government, as well as federal workforce development and training efforts that support nutrition research.

Created in 1983, the Interagency Committee on Human Nutrition Research (ICHNR) aims to increase the overall effectiveness and productivity of federally supported or conducted human nutrition research. The ICHNR includes representatives from the departments of Agriculture (USDA), Health and Human Services (HHS), Defense (DoD) and Commerce; the Federal Trade Commission (FTC), the National Aeronautics and Space Administration (NASA), the National Science Foundation (NSF), the Agency for International Development (USAID), the Environmental Protection Agency (EPA), the Veterans Health Administration (VHA), and the White House Office of Science and Technology Policy (OSTP). Early in 2013, the ICHNR recognized the need for a written plan to coordinate federal human nutrition research. The ICHNR anticipates that an interagency plan for federal human nutrition research could foster a coordinated approach that would address knowledge gaps, accelerate innovations, and strengthen the capacity of the multidisciplinary workforce that is required to bring these innovations to fruition.

To develop a national plan, the ICHNR created a National Nutrition Research Roadmap (NNRR) Subcommittee with representatives from each of the participating ICHNR departments and agencies. Beginning in the summer of 2014, the NNRR Subcommittee and its subsidiary Writing Group, with the assistance of more than 80 federal experts, developed the Draft National Nutrition Research Roadmap, which was reviewed and approved by the ICHNR to seek public comment on. Initial discussions addressed common knowledge gaps, opportunities, and research themes extracted from a variety of publications and Web sites, including human nutrition research reviews, as well as federal and non-United States strategic plans and reports. These discussions yielded the following three framing questions that covered the broad spectrum of research likely to yield accelerated progress in nutrition research to improve and sustain health for all Americans. Within these three questions, the following eleven topical areas were identified based on the following criteria: population impact, feasibility, and emerging scientific opportunities, given advances in research knowledge and capacity. In finalizing these topical areas, consideration was given to research gaps across the lifecycle, particularly for at-risk groups such as pregnant women, children, and older adults, in nutrition-related chronic diseases contributing most to the morbidity and mortality in the United States, and in understanding of the role nutrition for optimal performance and military readiness.

Key Research Priorities for 2015-2020
Question 1: How can we better understand and define eating patterns to improve and sustain health?
Question 1 Topic 1 (Q1T1): How do we enhance our understanding of the role of nutrition in health promotion and disease prevention and treatment?
Question 1 Topic 2 (Q1T2): How do we enhance our understanding of individual differences in nutritional status and variability in response to diet?
Question 1 Topic 3 (Q1T3): How do we enhance population-level food- and nutrition-related health monitoring systems and their integration with other data systems to increase our ability to evaluate change in food supply, composition, consumption, and health status?
Question 2: What can be done to help people choose healthy eating patterns?
Question 2 Topic 1 (Q2T2): How can we more effectively characterize the interactions among the demographic, behavioral, lifestyle, social, cultural, economic, and environmental factors that influence eating choices?
Question 2 Topic 2 (Q2T2): How do we develop, enhance and evaluate interventions at multiple levels to improve and sustain healthy eating patterns?
Question 2 Topic 3 (Q2T3): Applying systems science in nutrition research, how can simulation modeling advance exploration of the impact of multiple interventions?
Question 2 Topic 4 (Q2T4): How can interdisciplinary research identify effective approaches to enhance the environmental sustainability of healthy eating patterns?
Question 3: How can we engage innovative methods and systems to accelerate discoveries in human nutrition?
Question 3 Topic 1 (Q3T1): How can we enhance innovations in measuring dietary exposure, including use of biomarkers?
Question 3 Topic 2 (Q3T2): How can basic biobehavioral science be applied to better understand eating behaviors?
Question 3 Topic 3 (Q3T3): How can we use behavioral economics theories and other social science innovations to improve eating patterns?
Question 3 Topic 4 (Q3T4): How can we advance nutritional sciences through the use of research innovations involving Big Data?

The Draft Roadmap was developed to engage federal science agency leaders, along with relevant program and policy staff who rely on federally supported human nutrition research, in addition to the broader research community. Each topical area first provides a rationale that explains the importance of the topical area to improving and sustaining health; then identifies research gaps and opportunities; and concludes with suggested short- (approximately 1-3 years) and long-term (approximately 3-5 years) research and resource initiatives. The NNRR Subcommittee also put forth recommendations for developing a workforce able to advance nutritional sciences research.

Each of the participating ICHNR agencies or departments briefly describes their contributions to human nutrition research and gathered insights from senior leadership on agency contributions relevant to the identified topical areas.

Critical ingredients to addressing the research needs put forth in this Draft Roadmap will be interagency collaborations and public-private partnerships among government, academia, and private entities. These types of collaborations and partnerships could potentially:

• Expand the scope, interdisciplinary nature, and potential of a project;

• Enhance the likelihood of broader and more rapid implementation of the results;

• Allow for needed expertise to advance project goals;

• Reduce the cost of a project to an individual collaborator; and

• Increase the likelihood of adequate funding for meritorious projects.

Implementing the National Nutrition Research Roadmap

The ICHNR will distribute this Roadmap to encourage all relevant federal departments and agencies to coordinate human nutrition research programs to identify solutions to critical, nutrition-related, chronic disease prevention and health promotion issues. The aim is to have participating departments and agencies develop specific goals, objectives, and strategies based on the Roadmap and to identify their unique and collaborative roles, responsibilities, and the required resources and timeframes to accomplish those research goals. Given the strong trans-agency interests in a number of these areas of research, we hope to foster several coordinated research efforts to address research gaps and opportunities identified in this Roadmap and monitor their progress. We also hope the dissemination of these critical research gaps and opportunities will inspire the broader scientific community—at all developmental stages—to accelerate advances in human nutrition research to help improve and sustain the health of all Americans.

Information Requested

This Notice invites public comment on the Draft National Nutrition Research Roadmap 2015-2020: Advancing Nutrition Research to Improve and Sustain Health. Input is being sought regarding the Roadmap's key questions, topics, research gaps and opportunities, and the short- and long-term research and resource initiatives that would address those gaps and opportunities.

General Information

All of the following fields in the response are optional and voluntary. Any personal identifiers will be removed when responses are compiled. Proprietary, classified, confidential, or sensitive information should not be included in your response. This Notice is for planning purposes only and is not a solicitation for applications or an obligation on the part of the United States (U.S.) government to provide support for any ideas identified in response to it. Please note that the U.S. government will not pay for the preparation of any comment submitted or for its use of that comment.

Please indicate if you are one of the following: Investigator, administrator, student, patient advocate, Dean/or Institutional administrator, NIH employee, or other. If you are an investigator, please indicate your career level and main area of research interest, including whether the focus is clinical or basic sciences. If you are a member of a particular advocacy or professional organization, please indicate the name and primary focus of your organization (i.e., research support, patient care, etc.) and whether you are responding on behalf of your organization (if not, please indicate your position within the organization). Please provide your name and email address.

Privacy Act Notification Statement: We are requesting your comments on the Draft National Nutrition Research Roadmap 2015-2020: Advancing Nutrition Research to Improve and Sustain Health. The information you provide may be disclosed to ICHNR staff and to contractors working on our behalf. Submission of this information is voluntary. However, the information you provide will help to categorize responses by scientific area of expertise, organizational entity or professional affiliation.

Collection of this information is authorized under 42 U.S.C. 203, 24 1, 2891-1 and 44 U.S.C. 310 I and Section 30 l and 493 of the Public Health Service Act regarding the establishment of the National Institutes of Health, its general authority to conduct and fund research and to provide training assistance, and its general authority to maintain records in connection with these and its other functions.

Dated: May 19, 2015.
Lawrence A. Tabak,
Deputy Director, National Institutes of Health.

[FR Doc. 2015-12628 Filed 5-22-15; 8:45 am]

BILLING CODE 4140-01-P